OFFICE OF PERSONNEL MANAGEMENT

Excepted Service

AGENCY: U.S. Office of Personnel Management (OPM).

ACTION: Notice.

SUMMARY: This notice identifies Schedule A, B, and C appointing authorities applicable to a single agency that were established or revoked from June 1, 2014, to June 30, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

03. Executive Office of the President (Schedule A 213.3103)

(b) Office of Management and Budget

(2) Not to Exceed 34 positions that require unique technical skills needed for the re-designing and re-building of digital interfaces between citizens, businesses, and Government as a part of the Smarter Information Technology Delivery Initiative. This authority may be used to make permanent, time-limited and temporary appointments to Digital Services Expert positions (GS-301) directly related to the implementation of the Smarter Information Technology Delivery Initiative at the GS-14 to 15 level. No new appointments may be made under this authority after September 30, 2016.

27. Veterans Affairs (Schedule A 213.3127)

(e) Not to Exceed 75 positions that require unique technical skills needed for the re-designing and re-building of digital interfaces between citizens, businesses, and Government as a part of the Smarter Information Technology Delivery Initiative. This authority may be used to make permanent, time-limited and temporary appointments to non-supervisory Digital Services Expert positions (GS-301) directly related to the implementation of the Smarter Information Technology Delivery Initiative at the GS-15 level. No new appointments may be made under this authority after September 30, 2017.

33. Federal Deposit Insurance Corporation (Schedule A 213.3133)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed 7 years.

37. General Services Administration (Schedule A 213.3137)

(a) Not to Exceed 95 positions that require unique technical skills needed for the re-designing and re-building of digital interfaces between citizens, businesses, and Government as a part of the Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

Schedule B

No Schedule B authorities to report during June 2014.

Schedule C

The following Schedule C appointing authorities were approved during June 2014.

Agency name | Organization name | Position title | Authorization No. | Effective date
DEPARTMENT OF AGRICULTURE | Farm Service Agency | State Executive Director—Oregon | DA140089 | 6/11/2014
BROADCASTING BOARD OF GOVERNORS | International Broadcasting Bureau | General Manager | IB140004 | 6/19/2014
DEPARTMENT OF COMMERCE | Office of Public Affairs | Director of Speechwriting | DC140099 | 6/2/2014
| Office of the Chief of Staff | Deputy Director of Advance | DC140101 | 6/4/2014
| Office of Under Secretary | Senior Advisor | DC140104 | 6/4/2014
| Director General of the United States and Foreign Commercial Service and Assistant Secretary for Global Markets | Special Assistant for Policy Initiatives Senior Advisor | DC140106 DC140119 | 6/9/2014 6/12/2014
| Office of the Deputy Secretary | Special Advisor | DC140120 | 6/12/2014
| Office of the Chief of Staff | Senior Protocol Officer | DC140122 | 6/16/2014
| Advocacy Center | Policy Assistant | DC140123 | 6/16/2014
| International Trade Administration | Confidential Assistant | DC140125 | 6/24/2014
COMMODITY FUTURES TRADING COMMISSION | Division of Enforcement | Director, Division of Enforcement | CT140008 | 6/9/2014
| Office of the Chairperson | Director of Legislative Affairs | CT140006 | 6/16/2014
|  | Administrative Assistant | CT140009 | 6/25/2014
DEPARTMENT OF DEFENSE | Assistant Secretary of Defense (Acquisition) | Special Assistant for Acquisition | DD140063 | 6/23/2014
DEPARTMENT OF THE ARMY | Office of the Under Secretary | Special Assistant | DW140014 | 6/4/2014
DEPARTMENT OF EDUCATION | Office of Communications and Outreach | Special Assistant for Strategic Communications | DB140081 | 6/12/2014
| Office of Elementary and Secondary Education | Deputy Assistant Secretary for Policy and Strategic Initiatives | DB140082 | 6/12/2014
| Office of Career Technical and Adult Education | Confidential Assistant (2) | DB140084 | 6/17/2014
|  |  | DB140087 | 6/20/2014
| Office of the Deputy Secretary | Special Assistant | DB140080 | 6/18/2014
DEPARTMENT OF ENERGY | Office of Energy Policy and Systems Analysis | Special Assistant | DE140064 | 6/18/2014
ENVIRONMENTAL PROTECTION AGENCY | Office of the Administrator | Special Assistant for Public Engagement | EP140034 | 6/3/2014
| Office of the Assistant Administrator for Solid Waste and Emergency Response | Special Assistant | EP140040 | 6/17/2014
FEDERAL COMMUNICATIONS COMMISSION | Office of Media Relations | Director of Outreach and Strategy | FC140011 | 6/24/2014
FEDERAL MINE SAFETY AND HEALTH REVIEW COMMISSION | Office of the Chairman | Confidential Assistant | FR140001 | 6/16/2014
GENERAL SERVICES ADMINISTRATION | Office of Communications and Marketing | Deputy Press Secretary | GS140039 | 6/13/2014
| Office of Citizen Services and Innovative Technologies | Program Director, Presidential Innovation Fellows | GS140040 | 6/13/2014
| Office of the Administrator | Chief Customer Officer | GS140041 | 6/13/2014
DEPARTMENT OF HEALTH AND HUMAN SERVICES | Office of the Secretary | Special Advisor | DH140072 | 6/5/2014
|  | Senior Advisor | DH140070 | 6/6/2014
| Office of the Assistant Secretary for Public Affairs | Online Communications and Outreach Advisor | DH140071 | 6/6/2014
| Office of Intergovernmental and External Affairs | Director of Business Outreach | DH140073 | 6/6/2014
| Center for Consumer Information and Insurance Oversight | State Exchange Group Director | DH140101 | 6/26/2014
DEPARTMENT OF HOMELAND SECURITY | Office of the Secretary | Special Assistant | DM140151 | 6/2/2014
| Federal Emergency Management Agency | Director of Public Affairs | DM140155 | 6/19/2014
| United States Immigration and Customs Enforcement | Director of Communications | DM140181 | 6/24/2014
| Office of the General Counsel | Counselor | DM140183 | 6/24/2014
| United States Citizenship and Immigration Services | Counselor | DM140185 | 6/26/2014
DEPARTMENT OF HOUSING AND URBAN DEVELOPMENT | Office of Policy Development and Research | Financial Analyst for Housing Finance | DU140027 | 6/6/2014
| Office of Policy Development and Research | Special Assistant for Policy, Development, and Research | DU140029 | 6/9/2014
| Office of Public Affairs | Special Assistant for Public Engagement | DU140030 | 6/13/2014
DEPARTMENT OF THE INTERIOR | Assistant Secretary—Water and Science | Counselor- Water and Science | DI140040 | 6/20/2014
| Secretary's Immediate Office | Deputy Press Secretary | DI140048 | 6/20/2014
DEPARTMENT OF JUSTICE | Office of Public Affairs | Confidential Assistant | DJ140063 | 6/10/2014
| Office of Legislative Affairs | Attorney Advisor | DJ140055 | 6/16/2014
DEPARTMENT OF LABOR | Office of the Secretary | Special Assistant (2) | DL140055 DL140072 | 6/5/2014 6/25/2014
| Veterans Employment and Training Service | Special Assistant | DL140053 | 6/9/2014
| Office of Congressional and Intergovernmental Affairs | Senior Legislative Officer Senior Legislative Assistant | DL140054 DL140065 | 6/9/2014 6/16/2014
| Office of the Assistant Secretary for Administration and Management | Special Assistant | DL140056 | 6/16/2014
| Office of the Deputy Secretary | Senior Policy Advisor | DL140067 | 6/23/2014
| Bureau of International Labor Affairs | Chief of Staff | DL140068 | 6/25/2014
NATIONAL ENDOWMENT FOR THE ARTS | National Endowment for the Arts | Special Assistant | NA140004 | 6/9/2014
OFFICE OF MANAGEMENT AND BUDGET | Office of the Director | Assistant to the Director | BO140013 | 6/9/2014
| Office of E-Government and Information Technology | Confidential Assistant | BO140018 | 6/9/2014
OFFICE OF NATIONAL DRUG CONTROL POLICY | Office of Demand Reduction | Special Assistant | QQ140003 | 6/20/2014
OFFICE OF PERSONNEL MANAGEMENT | Office of the Director | Assistant Director, Office of Public Engagement | PM140028 | 6/12/2014
| Office of the General Counsel | Senior Counsel and Advisor | PM140029 | 6/12/2014
| Office of the Director | Director of Scheduling and Advance | PM140032 | 6/20/2014
OFFICE OF THE UNITED STATES TRADE REPRESENTATIVE | Office of the Ambassador | Special Assistant | TN140006 | 6/17/2014
SECURITIES AND EXCHANGE COMMISSION | Office of the Chairman | Confidential Assistant | SE140003 | 6/9/2014
SMALL BUSINESS ADMINISTRATION | Office of Field Operations | Regional Administrator (Region II) | SB140022 | 6/9/2014
| Office of Communications and Public Liaison | Press Secretary | SB140024 | 6/9/2014
| Office of Capital Access | Special Assistant | SB140025 | 6/9/2014
| Office of Communications and Public Liaison | Special Advisor for Public Engagement Press Assistant | SB140026 SB140028 | 6/11/2014 6/19/2014
DEPARTMENT OF STATE | Bureau of Legislative Affairs | Deputy Assistant Secretary | DS140089 | 6/10/2014
| Office of Faith Based Community Initiatives | Special Representative | DS140104 | 6/18/2014
| Office of the Secretary | Special Assistant | DS140088 | 6/20/2014
| Bureau of Public Affairs | Deputy Assistant Secretary | DS140106 | 6/20/2014
DEPARTMENT OF THE TREASURY | Assistant Secretary (Public Affairs) | Senior Advisor | DY140082 | 6/4/2014
| Assistant Secretary for Management | Confidential Assistant | DY140083 | 6/4/2014
| Assistant Secretary for Financial Institutions | Policy Advisor | DY140095 | 6/24/2014

The following Schedule C appointing authorities were revoked during June 2014.

Agency | Organization | Position title | Authorization No. | Vacate date
DEPARTMENT OF AGRICULTURE | Office of the Secretary | Senior Program Manager for Global Food Security | DA100165 | 6/28/2014
DEPARTMENT OF COMMERCE | Office of the Chief of Staff | Advance Specialist | DC110115 | 6/14/2014
COMMODITY FUTURES TRADING COMMISSION | Office of the Chairperson | Director of Legislative Affairs | CT140004 | 6/13/2014
DEPARTMENT OF EDUCATION | Office of Communications and Outreach | Confidential Assistant | DB130028 | 6/14/2014
| Office of Elementary and Secondary Education | Deputy Assistant Secretary for Policy and Strategic Initiatives | DB130029 | 6/14/2014
| Office of the Under Secretary | Confidential Assistant | DB140073 | 6/24/2014
EXPORT-IMPORT BANK | Office of the Chairman | Senior Vice President and Chief of Staff | EB130003 | 6/25/2014
DEPARTMENT OF HEALTH AND HUMAN SERVICES | Office of the Assistant Secretary for Health | Special Assistant | DH140020 | 6/6/2014
| Office of the Assistant Secretary for Legislation | Confidential Assistant | DH120112 | 6/14/2014
DEPARTMENT OF HOMELAND SECURITY | United States Citizenship and Immigration Services | Senior Counselor to the Director | DM110262 | 6/14/2014
| Federal Emergency Management Agency | Director of Public Affairs | DM120076 | 6/14/2014
DEPARTMENT OF THE INTERIOR | Secretary's Immediate Office | Deputy Director of Scheduling | DI120046 | 6/6/2014
| Secretary's Immediate Office | Press Assistant | DI130022 | 6/28/2014
DEPARTMENT OF JUSTICE | Community Relations Service | Senior Counsel | DJ130029 | 6/14/2014
DEPARTMENT OF LABOR | Bureau of International Labor Affairs | Chief of Staff | DL100036 | 6/1/2014
| Office of the Secretary | Special Assistant | DL130019 | 6/6/2014
OFFICE OF MANAGEMENT AND BUDGET | Office of the Director | Assistant to the Director | BO130016 | 6/8/2014
OFFICE OF MANAGEMENT AND BUDGET | Office of the Director | Special Assistant | BO130022 | 6/28/2014
OFFICE OF THE SECRETARY OF DEFENSE | Office of the Secretary | Special Assistant to the Secretary of Defense for Protocol | DD130037 | 6/27/2014
DEPARTMENT OF TRANSPORTATION | Public Affairs | Deputy Director of Public Affairs | DT130017 | 6/7/2014

Authority: 5 U.S.C. 3301 and 3302; E.O. 10577, 3 CFR, 1954-1958 Comp., p. 218.

U.S. Office of Personnel Management.
Katherine Archuleta,
Director.

[FR Doc. 2014-17990 Filed 7-30-14; 8:45 am]

BILLING CODE 6325-39-P